DEPARTMENT OF TRANSPORTATION

Federal Aviation Administration

14 CFR Part 71

[Docket No. FAA-2011-0018; Airspace Docket No. 10-AWP-18]

Amendment to and Revocation of Reporting Points; Hawaii

AGENCY: Federal Aviation Administration (FAA), DOT.

ACTION: Final rule, technical amendment.

SUMMARY: This action amends and removes, several Hawaiian Reporting Points. Specifically, the FAA is revising the description of EELIC, and TOADS to address recent technical adjustments to their actual locations. Additionally, the FAA is renaming the SILVA reporting point to SYVAD, and has determined that the LULUS, NIEMO, and PADDI reporting points are no longer needed. This action ensures the safe and efficient management of aircraft within the National Airspace System (NAS).

DATES: Effective date 0901 UTC, May 5, 2011. The Director of the Federal Register approves this incorporation by reference action under 1 CFR part 51, subject to the annual revision of FAA Order 7400.9 and publication of conforming amendments.

FOR FURTHER INFORMATION CONTACT: Ken McElroy, Airspace Regulation and ATC Procedures Group, Office of Mission Support Services, Federal Aviation Administration, 800 Independence Avenue, SW., Washington, DC 20591; telephone: (202) 267-8783.

SUPPLEMENTARY INFORMATION:

History

The Honolulu Control Center conducted a review of their airspace and has identified two reporting points that need to be amended to align with their actual locations. No changes to the routing or procedures are being made. Several reporting points are no longer needed for air traffic control and are being removed, and one reporting point is being renamed. Accordingly, since this is an administrative change and does not involve a change in the dimension or operating requirements of this airspace, notice and public procedures under 5 U.S.C. 553 (b) are unnecessary.

Hawaiian Reporting Points are listed in paragraph 7006 of FAA Order 7400.9U dated August 18, 2010, and effective September 15, 2010, which is incorporated by reference in 14 CFR 71.1. The Reporting Points listed in this document will be published subsequently in the Order.

The Rule

This action amends Title 14 Code of Federal Regulations (14 CFR) part 71 by amending two Reporting Points (EELIC and TOADS) to reflect their actual locations. Additionally, the SILVA reporting point will be renamed SYVAD, and adjusted to reflect its actual location. The LULUS, NIEMO, and PADDI Reporting Points will be removed.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends Reporting Points in Hawaii.

Environmental Review

The FAA has determined that this action qualifies for categorical exclusion under the National Environmental Policy Act in accordance with FAA Order 1050.1E, Environmental Impacts: Polices and Procedures, paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9U, Airspace Designations and Reporting Points, dated August 18, 2010, and effective September 15, 2010, is amended as follows:

Paragraph 7006—Hawaiian reporting points.

* * * * *

EELIC [Amended]

Lat. 19°27′26″ N., long. 153°18′23″ W. (INT Hilo, HI, 099° radial and the Honolulu CTA/FIR boundary).

TOADS [Amended]

Lat. 22°46′09″ N., long. 156°41′46″ W. (INT Mollkai, HI, 015° radial and the Honolulu CTA/FIR boundary).

SYVAD [Amended]

INT South Kauai, HI, 271° radial and long. 162°45′29″ W.

LULUS: [Removed]

NIEMO: [Removed]

PADDI: [Removed]

SILVA: [Removed]

Issued in Washington, DC, on February 28, 2011.
Edith V. Parish,
Manager, Airspace, Regulation and ATC Procedures Group.

[FR Doc. 2011-4925 Filed 3-4-11; 8:45 am]

BILLING CODE 4910-13-P